FEDERAL COMMUNICATIONS COMMISSION

47 CFR Part 54

[CC Docket No. 96-45, FCC 03-170]

Federal-State Joint Board on Universal Service

AGENCY: Federal Communications Commission.

ACTION: Final rule; petition for reconsideration.

SUMMARY: In this document, the Commission denies the petitions for reconsideration of the Fourth Order on Reconsideration filed by North Dakota Public Service Commission, South Dakota Public Utilities Commission and Washington Utilities and Transportation Commission. Petitioners sought to redefine the definition of voice grade access to the public switched telephone network (PSTN) as 300 to 3,500 Hertz.

FOR FURTHER INFORMATION CONTACT: Elizabeth Yockus, Attorney, Telecommunications Access Policy Division, Wireline Competition Bureau, (202) 418-7400.

SUPPLEMENTARY INFORMATION: This is a summary of the Commission's Order on Reconsideration, 67 FR 41862 (6/20/02) in CC Docket No. 96-45 released on July 14, 2003. The full text of this document is available for public inspection during regular business hours in the FCC Reference Center, Room CY-A257, 445 12th Street SW., Washington, DC 20554.

I. Introduction

The Commission found that in the Universal Service First Report and Order, 67 FR 41862 (6/20/02), voice grade access to the PSTN should occur within the frequency range of 500 Hertz and 4,000 Hertz. In the Fourth Order on Reconsideration, 67 FR 70702 (November 26, 2002), the Commission reconsidered this definition because it found it would require ETCs to comply with a voice grade access standard more exacting than current industry standards. The Commission redefined the minimum bandwidth for voice grade access as 300 to 3,000 Hertz.

II. Discussion

1. The Commission denies the petitions for reconsideration of the Fourth Order on Reconsideration filed by North Dakota Public Service Commission, South Dakota Public Utilities Commission and Washington Utilities and Transportation Commission. As noted in the companion order released on July 14, 2003, in this docket, the Federal-State Joint Board on Universal Service expressly sought comment on this issue in this proceeding and recommended that the Commission not modify its standard for voice grade access. Moreover, no commenter in this proceeding submitted arguments in favor of modifying this definition. Accordingly, we retain the existing definition of voice grade access to the PSTN and deny the petitions for reconsideration of the Fourth Order on Reconsideration.

III. Ordering Clauses

2. Pursuant to the authority contained in sections 4(i), 4(j), 201-205, 214, 254, and 403 of the Communications Act of 1934, as amended, this order on reconsideration is adopted.

3. Pursuant to the authority contained in section 405 of the Communications Act of 1934, as amended, and § 1.429 of the Commission's rules, the petitions for reconsideration of the Fourth Order on Reconsideration filed by the North Dakota Public Service Commission, South Dakota Public Utilities Commission, and the Washington Utilities and Transportation Commission are denied.

List of Subjects in 47 CFR Part 54

Communications common carriers, Reporting and recordkeeping requirements, Telecommunications, Telephone.

Federal Communications Commission.
Marlene H. Dortch,
Secretary.

[FR Doc. 03-21164 Filed 8-18-03; 8:45 am]

BILLING CODE 6712-01-P